Title 3—

The President

Proclamation 9529 of October 27, 2016

Military Family Month, 2016

By the President of the United States of America

A Proclamation

For generations, brave Americans have stepped forward and answered our country's call to serve in our Armed Forces. With honor and distinction, our Soldiers, Sailors, Airmen, Marines, and Coast Guardsmen fight to defend the principles upon which our Republic was founded so that we might live in a freer and more prosperous world. Behind these courageous Americans stand spouses, children, and parents who give up precious time with their loved ones, bearing the burden of long deployments and difficult moves, and oftentimes putting their careers on hold. During Military Family Month, we salute the families of those who proudly are a part of our Nation's unbroken chain of patriots for their unwavering devotion, and we renew our sacred vow to uphold our promise to our troops, our veterans, and their families.

Our military would not be the greatest in the world without the strength and support of the loved ones who stand alongside our men and women in uniform. While our service members are fighting to secure the values we cherish and defend our homeland, their spouses keep their households running, sometimes through multiple deployments. Spouses of those in the military are often forced to relocate across our country or around the globe, leaving behind jobs they love and sometimes struggling to find new employment. They are our fellow citizens and neighbors; in their service to their families and their country, they represent the true strength of America.

Our Nation has a solemn obligation to support and care for the members of our military and their families—from their first day of training until they conclude their service—and my Administration has worked to ensure we uphold this promise. Through First Lady Michelle Obama and Dr. Jill Biden's Joining Forces initiative, we have worked with both the public and private sectors to ensure service members, veterans, and their families have the tools they need to succeed throughout their lives. Over the past 5 years, we have rallied businesses to hire more than 1.2 million veterans and military spouses. Today, every single State has taken action to streamline professional licensing and credentialing processes so that military spouses can continue their work when they move across State lines without having to re-certify for a job they are already qualified for. We are also working to provide the resources military families need to start businesses and pursue an education, and we are helping teachers and schools support military children from kindergarten through college. By partnering with the private sector, we have also helped expand access to essential science, technology, engineering, and math courses so that 60,000 more military children can be college-ready and prepared for 21st-century careers.

We must always be there for our service members and their families—just as they are there for us. Through the thickest of fights and the darkest of nights, our extraordinary military families—our heroes on the home front—stand alongside our patriots in uniform, and in their example we see the very best of our country's spirit. This month, let us thank them for their tremendous devotion to duty and for their unyielding sacrifice. Let us honor their resolve and patriotism and uphold our solemn responsibility to ensure the priorities of our Nation reflect the priorities of our military families.

NOW, THEREFORE, I, BARACK OBAMA, President of the United States of America, by virtue of the authority vested in me by the Constitution and the laws of the United States, do hereby proclaim November 2016 as Military Family Month. I encourage all Americans to honor military families through private actions and public service for the tremendous contributions they make in support of our service members and our Nation.

IN WITNESS WHEREOF, I have hereunto set my hand this twenty-seventh day of October, in the year of our Lord two thousand sixteen, and of the Independence of the United States of America the two hundred and forty-first.

[FR Doc. 2016-26525

Filed 10-31-16; 11:15 am]

Billing code 3295-F7-P